ENVIRONMENTAL PROTECTION AGENCY

[CERCLA-04-2020-2500; FRL-10007-80-Region 4]

Hydromex Superfund Site, Yazoo City, Mississippi Notice of Settlement

AGENCY: Environmental Protection Agency (EPA).

ACTION: Notice of settlement.

SUMMARY: Under 122(h) of the Comprehensive Environmental Response, Compensation and Liability Act (CERCLA), the United States Environmental Protection Agency (EPA) has entered into an Administrative Settlement Agreement and Order on Consent for Removal Actions with potentially responsible parties (PRPs) concerning the Hydromex Superfund Site located in Yazoo City, Mississippi. The settlement is for the performance of a removal action.

DATES: The Agency will consider public comments on the settlement until July 6, 2020. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using information within this notice or can be accessed on the Agency's web page https://www.epa.gov/aboutepa/about-epa-region-4-southeast#r4-public-notices. Comments may be submitted by referencing the Site's name or Docket #CERCLA-04-2020-2500 through email at Painter.Paula@epa.gov.

FOR FURTHER INFORMATION CONTACT: Paula V. Painter at 404/562-8887.

Dated: April 14, 2020.
Maurice Horsey,
Chief, Enforcement Branch, Superfund & Emergency Management Division.

[FR Doc. 2020-11929 Filed 6-2-20; 8:45 am]

BILLING CODE 6560-50-P